DEPARTMENT OF DEFENSE

Department of the Navy

Secretary of the Navy Advisory Panel (SNAP) and Subcommittee Naval Research Advisory Committee; Notice of Meeting

AGENCY: Department of the Navy, DoD.

ACTION: Amendment to Notice of Public Meeting.

SUMMARY: The Secretary of the Navy Advisory Panel (SNAP) and subcommittee Naval Research Advisory Committee (NRAC) will meet to discuss materials in support of two studies: “Use and Acquisition of Unmanned Systems in the Department of the Navy” and “Improving Governance in the Department of the Navy.” These sessions will be open to the public, with exception to any specific deliberations which may include the review of classified material.

DATES: The meeting will be held on Monday, January 8, 2018, from 10:00 a.m. to 12:00 p.m. Due to unforeseen circumstances, the Secretary of the Navy Advisory Panel was unable to provide public notification concerning its meeting along with a meeting of the Naval Research Advisory Committee, a subcommittee of the Secretary of the Navy Advisory Panel on January 8, 2018, as required by 41 CFR 102-3.150(a). Accordingly, the Advisory Committee Management Officer for the Department of Defense, pursuant to 41 CFR 102-3.150(b), waives the 15-calendar day notification requirement.

ADDRESSES: The meeting will be held at the Pentagon, Conference Center, Room B5.

FOR FURTHER INFORMATION CONTACT: James Custer, Secretary of the Navy Advisory Panel, Office of the Deputy Secretary of the Navy for Policy, 1000 Navy Pentagon, Washington, DC 20350, james.custer@navy.mil, 703-693-3403.

SUPPLEMENTARY INFORMATION: This meeting is being held under the provisions of the Federal Advisory Committee Act (FACA) of 1972 (5 U.S.C., Appendix, as amended), the Government in the Sunshine Act of 1976 (5 U.S.C. 52b, as amended), and 41 CFR 102-3.140 and 102-3.150.

Public access is limited due to Pentagon security requirements. Members of the public wishing to attend this event must enter through the Pentagon Visitors' Center adjacent to the Pentagon's Metro Station Entrance. All Pentagon visitors must present two forms of valid government-issued photo identification. All visitors and belongings are required to go through security screening. All belongings are required to pass through an x-ray machine. With the exception of Department of Defense Common Access Card (CAC) holders, Pentagon visitors are required to have a sponsor/escort for access into the Pentagon and must be escorted at all times. Members wishing to attend this meeting must have completed all security procedures no later than 09:15 p.m. to receive a visitor badge and depart the waiting area with their sponsor/escort. Guests requiring escort will be escorted directly to the meeting room and access will be limited to areas related to meeting activities. Members of the public shall remain with designated escorts at all times while on the Pentagon reservation. Upon completion of the period of meeting open to the public, guests will be escorted to the building exit. Members of the public with questions regarding visitor access to the Pentagon may call 703-693-3953.

To request a sponsor and escort for the open session of this meeting, at least 5 days in advance of the meeting, email james.custer@navy.mil and Christopher.rodeman@navy.mil or call 703-693-3403. In the subject line, please enter “Request a sponsor and escort for the Jan 8 SNAP/NRAC open session” and indicate in the body that you “will be attending the open session of the Advisory Panel meeting on January 8, 2018.” Include your name and mobile phone number. Individuals or groups may submit written statements for consideration by the Secretary of the Navy Advisory Panel at any time or in response to the agenda of a scheduled meeting. All correspondence must be submitted to the Designated Federal Officer (DFO) in care of the address below. If the written statement is in response to the agenda of this meeting, to be considered, must be received at least five days prior to the meeting in question. The DFO will review all timely submissions with the Chair of the Secretary of the Navy Panel. The DFO will ensure submissions are provided to Panel members prior to the meeting subject to this notice.

To contact the DFO, write to: Designated Federal Officer, Secretary of the Navy Advisory Panel, Office of the Deputy Secretary of the Navy for Policy, 1000 Navy Pentagon, Washington, DC 20350.

Dated: January 3, 2018.
E.K. Baldini,
Lieutenant Commander, Judge Advocate General's Corps, U.S. Navy, Federal Register Liaison Officer.

[FR Doc. 2018-00179 Filed 1-8-18; 8:45 am]

BILLING CODE 3810-FF-P